DEPARTMENT OF VETERANS AFFAIRS

[OMB Control No. 2900-0570]

Agency Information Collection Activities Under OMB Review

AGENCY: Veterans Health Administration, Department of Veterans Affairs.

ACTION: Notice.

SUMMARY: In compliance with the Paperwork Reduction Act (PRA) of 1995 (44 U.S.C. 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before June 5, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0570.”

Send comments and recommendations concerning any aspect of the information collection to VA's OMB Desk Officer, OMB Human Resources and Housing Branch, New Executive Office Building, Room 10235, Washington, DC 20503 (202) 395-7316. Please refer to “OMB Control No. 2900-0570” in any correspondence.

SUPPLEMENTARY INFORMATION: Title: Generic Clearance for the Veterans Health Administration Customer Satisfaction Surveys.

OMB Control Number: 2900-0570.

Type of Review: Extension of a currently approved collection.

Abstract: Executive Order 12862, Setting Customer Service Standards, requires Federal agencies and departments to identify and survey its customers to determine the kind and quality of services they want and their level of satisfaction with existing services. VHA uses customer satisfaction surveys to gauge customer perceptions of VA services as well as customer expectations and desires. The results of these information collections lead to improvements in the quality of VHA service delivery by helping to shape the direction and focus of specific programs and services.

Most customer satisfaction surveys will be recurring so that VHA can create ongoing measures of performance and to determine how well the agency meets customer service standards. The burden consists only of the information, which is essential to maintain the validity and support the goals of the Executive Order. VHA will use a variety of activities including focus groups and surveys to gauge customer perceptions of VA services as well as customer expectations and desires. If these surveys were not conducted or conducted less frequently, VA would not be responsive to the needs of the patient, be able to quickly correct quality of care issues or meet the needs of the veteran by quickly improving service.

An agency may not conduct or sponsor, and a person is not required to respond to a collection of information unless it displays a currently valid OMB control number. The Federal Register Notice with a 60-day comment period soliciting comments on this collection of information was published on January 30, 2003 on pages 4813-4814.

Affected Public: Individuals or households.

Estimated Annual Burden: 108,617 hours.

a. Special Emphasis Programs Conducted at Headquarters—72,882 hours.

b. Local Facilities Surveys (VA Medical Facilities)—35,735 hours.

Estimated Average Burden Per Respondent:

a. Special Emphasis Programs Conducted at Headquarters—18 minutes.

b. Local Facilities Surveys (VA Medical Facilities)—16 minutes.

Frequency of Response: Occasion.

Estimated Number of Respondents:

a. Special Emphasis Programs Conducted at Headquarters—241,312.

b. Local Facilities Surveys (VA Medical Facilities)—136,229.

Dated: April 22, 2003.
By direction of the Secretary.
Jacqueline Parks,
IT Specialist, Records Management Service.

[FR Doc. 03-11202 Filed 5-5-03; 8:45 am]

BILLING CODE 8320-01-P